FEDERAL HOUSING FINANCE BOARD

[No. 2004-N-04]

Submission for OMB Review; Comment Request

AGENCY: Federal Housing Finance Board.

ACTION: Notice.

SUMMARY: In accordance with the requirements of the Paperwork Reduction Act of 1995, the Federal Housing Finance Board (Finance Board) has submitted the information collection entitled “Federal Home Loan Bank Acquired Member Assets, Core Mission Activities, Investments and Advances” to the Office of Management and Budget (OMB) for review and approval of a three-year extension of the OMB control number, which is due to expire on February 29, 2004.

DATES: Interested persons may submit comments on or before March 25, 2004.

ADDRESSES: Submit comments to the Office of Information and Regulatory Affairs of the Office of Management and Budget, Attention: Desk Officer for the Federal Housing Finance Board, Washington, DC 20503.

FOR FURTHER INFORMATION OR COPIES OF THE INFORMATION COLLECTION CONTACT: David Roderer, Financial Analyst, Risk Monitoring Division, Office of Supervision, by e-mail at rodererd@fhfb.gov, by telephone at 202/408-2540, or by regular mail at the Federal Housing Finance Board, 1777 F Street, NW., Washington, DC 20006.

SUPPLEMENTARY INFORMATION:

A. Need For and Use of the Information Collection

The Finance Board has authorized the Federal Home Loan Banks (FHLBanks) to acquire mortgage loans and other assets from their members or housing associates under certain circumstances. 12 CFR part 955. The regulation refers to these assets as acquired member assets or AMA. As part of this regulatory authorization, each FHLBank that acquires residential mortgage loans must provide to the Finance Board certain loan-level data elements on a quarterly basis. While the FHLBanks provide this data directly to the Finance Board, each FHLBank initially must collect the information from the private-sector member or housing associate from which the FHLBank acquires the mortgage loan.

Many FHLBank members and housing associates already collect the majority of the data elements the Finance Board rule requires as part of their customary and usual business practices. They must collect this data in order to do business with the Federal National Mortgage Association (Fannie Mae) and the Federal Home Loan Mortgage Corporation (Freddie Mac) under regulatory requirements issued by the Department of Housing and Urban Development (HUD) and pursuant to the information collection requirements under the Home Mortgage Disclosure Act (HMDA). While the information collection imposes only a minor incremental additional burden on most FHLBank members and housing associates, the burden estimate in Section B reflects the total annual burden of the entire information collection, not just the additional Finance Board specific data elements.

The primary duty of the Finance Board is to ensure that the FHLBanks operate in a safe and sound manner. 12 U.S.C. 1422a(a)(3)(A). To the extent consistent with the safety and soundness charge, the Finance Board also ensures that the FHLBanks carry out their housing finance mission. 12 U.S.C. 1422a(a)(3)(B). The Finance Board believes that the information collection is essential in order to monitor the safety and soundness of the FHLBanks. The Finance Board also believes that the information collection is necessary to monitor the extent to which the FHLBanks are fulfilling their statutory housing finance mission through their acquired member asset programs.

The OMB number for the information collection is 3069-0058. The OMB clearance for the information collection expires on February 29, 2004.

The likely respondents are institutions that sell AMA assets to FHLBanks.

B. Burden Estimate

The Finance Board estimates the total annual average number of respondents at 600, with 4 responses per respondent. The estimate for the average hours per response is 24 hours. The estimate for the total annual hour burden is 57,600 hours (600 respondents × 4 responses per respondent × 24 hours). While the first notice correctly reflected the total annual burden at 57,600 hours, it inadvertently misstated the number of responses per respondent at 12 not 4, and the average hours per response at 8 not 24.

C. Comment Request

In accordance with the requirements of 5 CFR 1320.8(d), the Finance Board published a request for public comments regarding this information collection in the Federal Register on December 12, 2003. See 68 FR 69405 (Dec. 12, 2003). The 60-day comment period closed on February 10, 2004. The Finance Board received two public comments, one each from an FHLBank and a member. The comments are available on the Finance Board Web site at http://www.fhfb.gov/pressroom/pressroom_regs.htm.

Both commenters state that certain data elements are difficult to collect and one commenter questions whether all data elements are necessary for the Finance Board to perform its functions. The Finance Board continues to believe that each data element is necessary to perform its safety and soundness and housing mission functions. However, the Finance Board presently is reviewing the data elements it collects as part of a review of the AMA regulation and will take the commenters views into consideration as part of that review.

The member commenter states that the Finance Board underestimates the level of effort for members to produce the information requested and does not include the cost of the operational processes and systems programming necessary to collect the data and create the data files. The Finance Board prepared its estimate with input from an FHLBank based on the FHLBanks' experience with hundreds of members. While the commenter's burden may vary from the average reported by the FHLBank, the Finance Board believes that the burden estimate remains, on average, valid for the 600 members that sell loans to FHLBanks.

Written comments are requested on: (1) Whether the collection of information is necessary for the proper performance of Finance Board functions, including whether the information has practical utility; (2) the accuracy of the Finance Board's estimates of the burdens of the collection of information; (3) ways to enhance the quality, utility and clarity of the information collected; and (4) ways to minimize the burden of the collection of information on respondents, including through the use of automated collection techniques or other forms of information technology. Comments may be submitted to OMB in writing at the address listed above.

Dated: February 18, 2004.
By the Federal Housing Finance Board.
Donald Demitros,
Chief Information Officer.

[FR Doc. 04-3878 Filed 2-23-04; 8:45 am]

BILLING CODE 6725-01-P